DEPARTMENT OF AGRICULTURE

Forest Service

Meeting of the Land Between the Lakes Advisory Board

AGENCY: Forest Service, USDA.

ACTION: Notice of meeting.

SUMMARY: The Land Between The Lakes Advisory Board will hold a meeting on Thursday, April 5, 2007. Notice of this meeting is given under the Federal Advisory Committee Act, 5 U.S.C. App. 2.

The meeting agenda includes the following:

(1) Welcome/Introductions

(2) Board Discussion on Public Comments Received

(3) Strategies for Environmental Education

(4) Brandon Spring Group Center Program Presentation

(5) Discussions with Students Visiting Brandon Spring Group Center

The meeting is open to the public. Written comments are invited and may be mailed to: William P. Lisowsky, Area Supervisor, Land Between The Lakes, 100 Van Morgan Drive, Golden Pond, Kentucky 42211. Written comments must be received at Land Between The Lakes by March 29, 2007, in order for copies to be provided to the members at the meeting. Board members will review written comments received, and at their request, oral clarification may be requested at a future meeting.

DATES: The meeting will be held on April 5, 2007, 8:30 a.m. to 3:15 p.m.

ADDRESSES: The meeting will be held at the Brandon Spring Group Center at Land Between The Lakes, Kentucky, and will be open to the public.

FOR FURTHER INFORMATION CONTACT: Sharon Byers, Advisory Board Liaison, Land Between The Lakes, 100 Van Morgan Drive, Golden Pond, Kentucky 42211, 270-924-2002.

SUPPLEMENTARY INFORMATION: None.

Dated: March 9, 2007.
William P. Lisowsky,
Area Supervisor, Land Between The Lakes.

[FR Doc. E7-4852 Filed 3-15-07; 8:45 am]

BILLING CODE 3410-11-P